NATIONAL LABOR RELATIONS BOARD

Sunshine Act Meetings: July 2011

TIME AND DATES: All meetings are held at 2:30 p.m.: Tuesday, July 5, Wednesday, July 6, Thursday, July 7, Tuesday, July 12, Wednesday, July 13, Thursday, July 14, Wednesday, July 20, Thursday, July 21, Tuesday, July 26, Wednesday, July 27, and Thursday, July 28.

PLACE: Board Agenda Room, No. 11820, 1099 14th St., NW., Washington, DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

CONTACT PERSON FOR MORE INFORMATION: Lester A. Heltzer, (202) 273-1067.

Dated: July 1, 2011.
Lester A. Heltzer,
Executive Secretary.

[FR Doc. 2011-17013 Filed 7-1-11; 4:15 pm]

BILLING CODE P